FEDERAL RESERVE SYSTEM

Change in Bank Control Notices; Acquisitions of Shares of Banks or Bank Holding Companies

The notificants listed below have applied under the Change in Bank Control Act (12 U.S.C. 1817(j)) and §225.41 of the Board's Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than June 13, 2005.

A. Federal Reserve Bank of Atlanta (Andre Anderson, Vice President) 1000 Peachtree Street, N.E., Atlanta, Georgia 30303:

1. Mullins, John Joseph, Cullman, Alabama, to acquire voting shares of FCB Bancshares, Inc., and thereby indirectly acquire Premier Bank of the South, Good Hope, Alabama.

B. Federal Reserve Bank of Minneapolis (Jacqueline G. Nicholas, Community Affairs Officer) 90 Hennepin Avenue, Minneapolis, Minnesota 55480-0291:

2. West, Dennis W., Rice Lake, Wisconsin, to acquire voting shares of Rice Lake Bancorp, Inc., Rice Lake, Wisconsin and thereby indirectly acquire Dairy State Bank, Rice Lake, Wisconsin and First Bank & Trust, Menomomie, Wisconsin.

Board of Governors of the Federal Reserve System, May 25, 2005.

Robert deV. Frierson,
Deputy Secretary of the Board.

[FR Doc. 05-10794 Filed 5-31-05; 8:45 am]

BILLING CODE 6210-01-P